NUCLEAR REGULATORY COMMISSION

[Docket Nos. 50-387 and 50-388; NRC-2010-0109]

PPL Susquehanna, LLC.; Susquehanna Steam Electric Station, Units 1 And 2; Correction to Federal Register Notice for Environmental Assessment and Finding of No Significant Impact

AGENCY: Nuclear Regulatory Commission.

ACTION: Notice of issuance; correction.

SUMMARY: This document corrects a notice appearing in the Federal Register on March 19, 2010 (75 FR 13322), that incorrectly stated the number of exemptions requested by the licensee and the corresponding implementation date. This action is necessary to correct erroneous information.

FOR FURTHER INFORMATION CONTACT: Bhalchandra K. Vaidya, NRR/DORL/PM, Office of Nuclear Reactor Regulation, U.S. Nuclear Regulatory Commission, Washington, DC 20555-0001; telephone (301) 415-3308, e-mail: Bhalchandra.Vaidya@nrc.gov.

SUPPLEMENTARY INFORMATION: (1) On page 13322, in the first column, third complete paragraph, lines twelve, thirteen, and fourteen, it reads, “October 29, 2010, for two requirements and until July 31, 2011, for one other requirement. The proposed action, an” and is corrected to read “October 29, 2010, for one requirement and until July 31, 2011, for two other requirements. The proposed action, an.”

(2) On page 13322, in the second column, third complete paragraph, lines two, three, and four, it reads, “until October 29, 2010, for two requirements and until July 31, 2011, for one other requirement” and is corrected to read, “until October 29, 2010, for one requirement and until July 31, 2011, for two other requirements.”

(3) On page 13322, in the third column, second complete paragraph, last line, it reads, “13926, 13967 (March 27, 2009)]” and is corrected to read, “13926 (March 27, 2009)].”

(4) On page 13322, in the third column, third complete paragraph, lines nine, ten, and eleven, it reads, “October 29, 2010, for two requirements and until July 31, 2011, for one other requirement, would not have any” and is corrected to read, “October 29, 2010, for one requirement and until July 31, 2011, for two other requirements, would not have any”.

Dated in Rockville, Maryland this 29th day of March 2010.
For the Nuclear Regulatory Commission.
Bhalchandra K. Vaidya,
Project Manager Plant Licensing Branch 1-1, Division of Operating Reactor Licensing, Office of Nuclear Reactor Regulation.

[FR Doc. 2010-7722 Filed 4-5-10; 8:45 am]

BILLING CODE 7590-01-P